DEPARTMENT OF HEALTH AND HUMAN SERVICES

Centers for Disease Control and Prevention

National Center for Health Statistics (NCHS), Classifications and Public Health Data Standards Staff; Modifications to the International Classification of Diseases, Ninth Revision, Clinical Modification (ICD-9-CM), Supplementary Classification of External Causes of Injury and Poisoning

ACTION: Notice.

National Center for Health Statistics (NCHS), Classifications and Public Health Data Standards Staff, announces the following modifications to the International Classification of Diseases, Ninth Revision, Clinical Modification (ICD-9-CM), Supplementary Classification of External Causes of Injury and Poisoning. These codes will become effective October 1, 2008.

External Cause Tabular

New code E927.0 Overexertion from sudden strenuous movement. Sudden trauma from strenuous movement

New code E927.1 Overexertion from prolonged static position

New code E927.2 Excessive physical exertion from prolonged activity

New code E927.3 Cumulative trauma from repetitive motion

New code E927.4 Cumulative trauma from repetitive impact

New code E927.8 Other overexertion and strenuous and repetitive movements or loads

New code E927.9 Unspecified overexertion and strenuous and repetitive movements or loads

Contact Person for Additional Infor mation: Donna Pickett, Medical Systems Specialist, Classifications and Public Health Data Standards Staff, NCHS, 3311 Toledo Road, Room 2402, Hyattsville, Maryland 20782, e-mail dfp4@cdc.gov, telephone 301-458-4434. The complete diagnosis addenda may be accessed on the NCHS Web site using the URL: http://www.cdc.gov/nchs/datawh/ftpserv/ftpicd9/ftpicd9.htm#addenda.

The Director, Management Analysis and Services Office, has been delegated the authority to sign Federal Register notices pertaining to modifications to the ICD-9-CM, for both CDC and the Agency for Toxic Substances and Disease Registry.

Daniel Riedford,
Acting Director, Management Analysis and Services Office, Centers for Disease Control and Prevention.

[FR Doc. E8-18284 Filed 8-7-08; 8:45 am]

BILLING CODE 4163-18-P